DEPARTMENT OF ENERGY

Federal Energy Regulatory Commission

[Project No. 2280-015]

FirstEnergy Generation Corporation, FirstEnergy Generation, LLC; Notice of Application for Transfer of License, and Soliciting Comments and Motions To Intervene

On July 6, 2012, FirstEnergy Generation Corporation (transferor) and FirstEnergy Generation, LLC (transferee) filed an application for the transfer of license for the Kinzua Pumped Storage Project (FERC No. 2280), located on the Allegheny River in Warren County, Pennsylvania.

Applicants seek Commission approval to transfer the license for the Kinzua Pumped Storage Project from the transferor to the transferee.

Applicants' Contact: Mr. Morgan E. Parke, Sr. Corporate Counsel, FirstEnergy Service Company, 76 South Main Street, A-GO-15, Akron, OH 44308, Telephone (330) 384-4595 and Mr. John A. Whittaker IV, Winston & Strawn LLP, 1700 K Street NW., Washington, DC 20006-3817, Telephone (202) 282-5766.

FERC Contact: Patricia W. Gillis (202) 502-8735, patricia.gillis@ferc.gov.

Deadline for filing comments and motions to intervene: October 1, 2012. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed.

To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp.

Enter the docket number (P-2280) in the docket number field to access the document. For assistance, call toll-free 1-866-208-3372.

Dated: September 10, 2012.
Kimberly D. Bose,
Secretary.

[FR Doc. 2012-22668 Filed 9-13-12; 8:45 am]

BILLING CODE 6717-01-P